DEPARTMENT OF TRANSPORTATION

[Docket No. PHMSA-2022-0073]

Pipeline Safety: Information Collection Activities

AGENCY: Pipeline and Hazardous Materials Safety Administration (PHMSA), DOT.

ACTION: Notice and request for comments.

SUMMARY: In compliance with the Paperwork Reduction Act of 1995, this notice announces that the information collection requests abstracted below are being forwarded to the Office of Management and Budget (OMB) for review and comment. A Federal Register notice with a 60-day comment period soliciting comments on the information collections was published on June 16, 2022.

DATES: Interested persons are invited to submit comments on or before October 11, 2022.

ADDRESSES: The public is invited to submit comments regarding these information collection requests, including suggestions for reducing the burden, to the Office of Management and Budget, Attention: Desk Officer for the Office of the Secretary of Transportation, 725 17th Street NW, Washington, DC 20503. Comments can also be submitted electronically at www.reginfo.gov/public/do/PRAMain.

FOR FURTHER INFORMATION CONTACT: Angela Hill by telephone at 202-680-2034, by email at angela.dow@dot.gov, or by mail at DOT, PHMSA, 1200 New Jersey Avenue SE, PHP-30, Washington, DC 20590-0001.

SUPPLEMENTARY INFORMATION:

I. Background

Title 5, Code of Federal Regulations (CFR) section 1320.8(d), requires PHMSA to provide interested members of the public and affected agencies the opportunity to comment on information collection and recordkeeping requests before they are submitted to OMB for approval. In accordance with this regulation, on June 16, 2022, (87 FR 36373) PHMSA published a Federal Register notice with a 60-day comment period soliciting comments on its plan to renew, without change, three information collections that are due to expire in 2023. PHMSA received no comments in response to the proposed renewal of these information collection requests. This notice announces that PHMSA will submit the information collection requests abstracted below to OMB for approval.

The following information is provided for each information collection: (1) Title of the information collection; (2) OMB control number; (3) Current expiration date; (4) Type of request; (5) Abstract of the information collection activity; (6) Description of affected public; (7) Estimate of total annual reporting and recordkeeping burden; and (8) Frequency of collection.

PHMSA will request a three-year term of approval for each information collection. PHMSA requests comments on the following information:

1. Title: Reporting Safety-Related Conditions on Gas, Hazardous Liquid, and Carbon Dioxide Pipelines and Liquefied Natural Gas Facilities.

OMB Control Number: 2137-0578.

Current Expiration Date: 1/31/2023.

Type of Request: Renewal of a currently approved information collection.

Abstract: 49 CFR 191.23 and 195.55 require each operator of a pipeline facility (except master meter operators) to submit to PHMSA a written report on any safety-related condition that causes or has caused a significant change or restriction in the operation of a pipeline facility or a condition that is a hazard to life, property or the environment. This information collection supports the PHMSA strategic goal of safety by reducing the number of incidents in natural gas, hazardous liquid, and carbon dioxide pipelines as well as in liquefied natural gas facilities.

Affected Public: Operators of Natural Gas, Hazardous Liquid, and Carbon Dioxide Pipelines and Liquefied Natural Gas Facilities.

Annual Reporting and Recordkeeping Burden:

Total Annual Responses: 174.

Total Annual Burden Hours: 1,044.

Frequency of Collection: On occasion.

2. Title: Hazardous Liquid Operator Notifications.

OMB Control Number: 2137-0630.

Current Expiration Date: 1/31/2023.

Type of Request: Renewal of a currently approved information collection.

Abstract: The pipeline safety regulations contained within 49 CFR part 195 require hazardous liquid operators to notify PHMSA in various instances. Section 195.414 requires hazardous liquid operators who are unable to inspect their pipeline facilities within 72 hours of an extreme weather event to notify the appropriate PHMSA Region Director as soon as practicable. Section 195.452 requires operators of pipelines that cannot accommodate an in-line inspection tool to file a petition in compliance with § 190.9. These mandatory notifications help PHMSA to stay abreast of issues related to the health and safety of the nation's pipeline infrastructure.

Affected Public: Hazardous liquid pipeline operators.

Annual Reporting and Recordkeeping Burden:

Estimated number of responses: 110.

Estimated annual burden hours: 125.

Frequency of Collection: On occasion.

3. Title: Notification Requirements for Gas Transmission Pipelines.

OMB Control Number: 2137-0636.

Current Expiration Date: 1/31/2023.

Type of Request: Renewal of a currently approved information collection.

Abstract: The pipeline safety regulations contained within 49 CFR part 192 require operators to make various notifications upon the occurrence of certain events. Section 192.506(g) requires that operators who use alternative technologies or evaluation processes when conducting spike hydrostatic pressure tests to notify PHMSA at least 90 days in advance. Section 192.607(e)(4) specifies the reporting requirements associated with the expanded sampling and testing programs required (under § 192.607(e)) when sampling of unknown material properties on onshore steel transmission pipelines identify unknown or unexpected materials. Section 192.607(e)(5) requires that operators who use alternative statistical sampling approaches when verifying unknown materials properties to notify PHMSA at least 90 days in advance and provide information about the alternative program.

Section 192.624(b)(4) allows operators to petition for an extension of the completion deadlines to reconfirm maximum allowable operating pressure (MAOP) by up to one year if they provide an up-to-date plan, the reason for the requested extension, current status, completion date, remediation activities outstanding, and other factors. Section 192.624(c)(2)(iii) requires that operators notify PHMSA when they choose to use a less conservative pressure reduction factor or longer look-back period when reconfirming MAOP under § 192.624(c). Section 192.624(c)(3)(iii)(A) requires operators to notify PHMSA at least 90 days in advance when using an “other technology” besides those enumerated in § 192.624(c)(3) for reconfirming MAOP using engineering critical assessment and analysis.

Section 192.624(c)(6) requires operators to notify PHMSA at least 90 days in advance of using an alternative technical evaluation process in reconfirming MAOP in onshore steel transmission pipelines. Section 192.712(e)(2)(i)(E) allows operators to use other appropriate Charpy energy values (other than those specified in § 192.712(e)(2)(i)) if they notify PHMSA in advance.

Section 192.921(a)(7) requires operators to notify PHMSA (and applicable state and local authorities) at least 90 days in advance of using alternative baseline integrity assessment methods. Section 192.937(c)(7) requires operators to notify PHMSA (and applicable state and local authorities) at least 90 days in advance of using alternative ongoing integrity assessment methods.

These mandatory notifications help PHMSA to stay abreast of issues related to the health and safety of the nation's pipeline infrastructure. These notification requirements are necessary to ensure safe operation of transmission pipelines, ascertain compliance with gas pipeline safety regulations, and to provide a background for incident investigations.

Affected Public: Operators of natural gas transmission pipelines.

Estimated number of responses: 722.

Estimated annual burden hours: 1,070.

Frequency of collection: On occasion.

Comments are invited on:

(a) The need for the renewal and revision of this collection of information for the proper performance of the functions of the Agency, including whether the information will have practical utility;

(b) The accuracy of the Agency's estimate of the burden of the proposed collection of information,

(c) Ways to enhance the quality, utility, and clarity of the information to be collected; and

(d) Ways to minimize the burden of the collection of information on those who are required to respond, including the use of appropriate automated, electronic, mechanical, or other technological collection techniques.

Authority: The Paperwork Reduction Act of 1995; 44 U.S.C. Chapter 35, as amended; and 49 CFR 1.48.

Issued in Washington, DC, under authority delegated in 49 CFR 1.97.
John A. Gale,
Director, Standards and Rulemaking Division.

[FR Doc. 2022-19386 Filed 9-7-22; 8:45 am]

BILLING CODE 4910-60-P